DEPARTMENT OF HEALTH AND HUMAN SERVICES

National Committee on Vital and Health Statistics; Meeting and RFC

AGENCY: Centers for Disease Control and Prevention, HHS.

ACTION: Notice of meeting. notice of request for comment (RFC).

SUMMARY: Pursuant to the Federal Advisory Committee Act, the Department of Health and Human Services (HHS) announces the following advisory committee meeting and related Request for Comment (RFC). The meeting is open to the public. The public is welcome to obtain the link to attend this meeting by following the instructions posted on the Committee website: https://ncvhs.hhs.gov/meetings/standards-subcommittee-hearing/.

Name: National Committee on Vital and Health Statistics (NCVHS) Standards Subcommittee Meeting.

DATES: The meeting will be held Wednesday, January 18, 2023: 10:00 a.m.-5:30 p.m. EST and Thursday, January 19, 2023: 10:00 a.m.-5:30 p.m. EST.

To submit comments in response to the RFC, please send by close of business December 15, 2022, to NCVHSmail@cdc.gov, and include on the subject line: RFC on X12 and CAQH CORE Proposals.

ADDRESSES: Virtual open meeting.

FOR FURTHER INFORMATION CONTACT: Substantive program information may be obtained from Rebecca Hines, MHS, Executive Secretary, NCVHS, National Center for Health Statistics, Centers for Disease Control and Prevention, 3311 Toledo Road, Hyattsville, Maryland 20782, via electronic mail to vgh4@cdc.gov; or by telephone (301) 458-4715. Summaries of meetings and a roster of Committee members are available on the home page of the NCVHS website https://ncvhs.hhs.gov/, where further information including an agenda and instructions to access the broadcast of the meeting will be posted.

Should you require reasonable accommodation, please telephone the CDC Office of Equal Employment Opportunity at (770) 488-3210 as soon as possible.

SUPPLEMENTARY INFORMATION: As outlined in its Charter, the National Committee on Vital and Health Statistics assists and advises the Secretary of HHS on health data, data standards, statistics, privacy, national health information policy, and the Department's strategy to best address those issues. This includes the adoption and implementation of transaction standards, unique identifiers, and code sets adopted under the Health Insurance Portability and Accountability Act of 1996 (HIPAA),¹ and operating rules adopted under the Patient Protection and Affordable Care Act (ACA).²

¹ Public Law 104-191, 110 Stat. 1936 (Aug 21, 1996), available at: https://www.congress.gov/104/plaws/publ191/PLAW-104publ191.pdf.

² Public Law 111-148, 124 Stat. 119 (Mar 23, 2010), available at: https://www.congress.gov/111/plaws/publ148/PLAW-111publ148.pdf.

Purpose: The purpose of this hearing is to inform the Committee as it develops recommendations to HHS. During the hearing, the Committee will receive input from representatives of standards development organizations (SDOs), Operating Rule Authoring Entities (ORAEs) and industry stakeholders in response to requests received from two organizations: X12 ³ and the Council for Affordable Quality Healthcare's (CAQH) Committee on Operating Rules for Information Exchange (CORE) Board.⁴ Together, these requests ask NCVHS to consider and develop recommendations to HHS regarding proposed mandatory updates to four HIPAA-adopted transactions, mandatory updates to four adopted operating rules, and six new operating rules described below.

³ Letter from X12 to NCVHS, June 7, 2022: https://ncvhs.hhs.gov/wp-content/uploads/2022/09/X12-Request-for-review-of-8020-transactions-060822-to-NCVHS-508.pdf.

⁴ Letter from CAQH CORE to NCVHS, May 23, 2022: https://ncvhs.hhs.gov/wp-content/uploads/2022/09/CAQH-CORE-Board-Letter-to-NCVHS-re-New-Updated-OR-052322-508.pdf.

The agenda for the hearing dedicates one day to the X12 proposed standards updates and one day to the proposed updated and new operating rules. The agenda on both days will include time for public comment. Meeting times and topics are subject to change.

Request for comment: This Notice also serves as a Request for Comment (RFC) to solicit input from industry stakeholders, patients, any interested individuals and organizations, or any members of the public to the Subcommittee in advance of the January 18-19, 2023, hearing. The Committee is seeking input about the value of the proposed transactions and operating rules, including costs, benefits, test results, and overall impact of updating and adopting (or not adopting) these transaction standards and operating rules. The comments will inform the Committee's deliberations about the value, benefits, and costs of the proposed updates to the standard transactions and operating rules. The Committee will compile the responses in advance of the January 18-19, 2023, hearing and consider them together with the live testimony of subject matter experts provided at the meeting. In addition, NCVHS is collaborating with the Workgroup for Electronic Data Interchange (WEDI) that is also gathering and providing information as described below.

The RFC includes suggested topics and questions to guide commenters. However, comments are welcome on any subject relevant to the Committee's inquiry and any aspect of the agenda. The suggested topics and questions are available on the Committee's website at: https://ncvhs.hhs.gov/January-2023-Standards-Subcommittee-Hearing-Public-Comment-Guidelines. To submit comments in response to the RFC, please send by December 15, 2022, to NCVHSmail@cdc.gov, and include on the subject line: RFC on X12 and CAQH CORE Proposals.

Requests From X12 and CAQH CORE

On June 7, 2022, X12 submitted a letter to NCVHS to recommend an update of adopted transactions: from version 5010 to version 8020 for the adopted administrative standard for the health care claims (professional, institutional, and dental) and the remittance advice transactions.⁵

⁵ Letter from X12 to NCVHS, June 7, 2022: https://ncvhs.hhs.gov/wp-content/uploads/2022/09/X12-Request-for-review-of-8020-transactions-060822-to-NCVHS-508.pdf.

HIPAA requires the Secretary of HHS to promulgate regulations adopting standards, code sets, and identifiers to support the exchange of electronic health information between covered entities, including standards for retail pharmacy and medical transactions. Standards setting organizations or the Designated Standards Maintenance Organization (DSMO) bring forward new versions of the adopted standards to NCVHS after completion of a consensus-based review and evaluation process. Under section 1173(3)(B), the organizations with whom a DSMO should consult for input include the National Uniform Billing Committee, the National Uniform Claim Committee, the Workgroup for Electronic Data Interchange, and the American Dental Association.

On May 23, 2022, the CAQH CORE submitted a letter to NCVHS to consider a package of CAQH CORE Operating Rules for federal adoption as follows: ⁶

⁶ Letter from CAQH CORE to NCVHS dated May 23, 2022: https://ncvhs.hhs.gov/wp-content/uploads/2022/09/CAQH-CORE-Board-Letter-to-NCVHS-re-New-Updated-OR-052322-508.pdf.

Updates to Adopted Operating Rules

• Updated Eligibility & Benefits Data Content Rule;

• Updated Claim Status Infrastructure Rule (updates + reference to new Connectivity rule);

• Updated Payment & Remittance Advice Infrastructure Rule (reference to new Connectivity rule);

• Updated Eligibility & Benefits Infrastructure Rule (updates + reference to new Connectivity rule).

Proposed New Operating Rules

• CAQH CORE Connectivity Rule vC4.0.0—replaces existing connectivity requirements in infrastructure components of adopted operating rules; adds new requirements to all operating rules;

• New CAQH CORE Eligibility & Benefits (270/271) Single Patient Attribution Data Content Rule;

• New Attachments Prior Authorization Infrastructure Rule;

• New Attachments Prior Authorization Data Content Rule;

• New Attachments Health Care Claims Infrastructure Rule;

• New Attachments Health Care Claims Data Content Rule.

Section 1104 of ACA amended HIPAA by introducing the requirement to adopt operating rules to support the business function of each HIPAA-adopted standard transaction. HHS has adopted operating rules for the eligibility, claim status, electronic remittance advice, and electronic funds transfer transactions. HHS has not yet adopted operating rules for health care claims, enrollment/disenrollment, premium payments, prior authorization for referrals, or health care claim attachments transactions.

Additional Opportunity To Provide Comment

In addition to the January 18-19, 2023, hearing and RFC, the Committee is collaborating with the Workgroup for Electronic Data Interchange (WEDI) in its role as advisor to the Secretary of Health and Human Services (HHS). WEDI is considered an authority on the use of health information technology (HIT) to improve health information exchange. Its membership includes a cross-section of HIPAA covered entities that implement the HIPAA standards and operating rules, as well as vendors and other subject matter experts who support those implementations. WEDI is supporting NCVHS' efforts to obtain input from a diverse group of stakeholders through educational programs, its annual conference October 25-27, 2022, and other organized information gathering activities. WEDI will compile and analyze this information and share the results with NCVHS by early December 2022. Additional information regarding the WEDI conference and its upcoming outreach efforts is available at: https://www.wedi.org/about-us/ and https://members.wedi.org/event-calendar. The results of WEDI's upcoming information-gathering activities will be presented during NCVHS's January 18-19, 2023, hearing.

Sharon Arnold,
Associate Deputy Assistant Secretary, Science and Data Policy, Office of the Assistant Secretary for Planning and Evaluation.

[FR Doc. 2022-23678 Filed 10-31-22; 8:45 am]

BILLING CODE 4150-05-P